DEPARTMENT OF AGRICULTURE

Submission for OMB Review; Comment Request

January 30, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 5, 2020 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: National Animal Health Monitoring System; Health Management on U.S. Feedlots 2020.

OMB Control Number: 0579-0079.

Summary of Collection: Collection and dissemination of animal health and information is mandated by 7 U.S.C. 391, the Animal Industry Act of 1884, which established the precursor of the Animal and Plant Health Inspection Service (APHIS), Veterinary Services, the Bureau of Animal Industry. Collection, analysis, and dissemination of livestock and poultry health information on a national basis are consistent with the APHIS mission of protecting and improving American agriculture's productivity and competitiveness. The National Animal Health Monitoring System (NAHMS) will initiate the national data collection for beef feedlot operations through the Feedlot 2020 study.

Need and Use of the Information: APHIS plans to conduct the feedlot study as part of an ongoing series of NAHMS studies on the U.S. beef feedlot population. APHIS will use the data collected to: (1) Describe health management practices on U.S. feedlots with 50 or more head; (2) estimate the prevalence of important feedlot cattle diseases; (3) describe antimicrobial use and stewardship practices on U.S. feedlots; (4) describe producers' overall preparedness for changes to the Veterinary Feed Directive; and (5) describe trends in feedlot cattle health management practices and important feedlot cattle diseases.

Without this type of national data, the U.S.' ability to detect trends in management, production, and health status, either directly or indirectly, would be reduced or nonexistent.

Description of Respondents: Business or other for-profit.

Number of Respondents: 5,413.

Frequency of Responses: Reporting: On occasion.

Total Burden Hours: 3,790.

Animal Plant and Health Inspection Service

Title: Irradiation Phytosanitary Treatment for Fresh Fruits and Vegetables.

OMB Control Number: 0579-0155.

Summary of Collection: Under the Plant Protection Act (7 U.S.C. 7701-7772), the Animal and Plant Health Inspection Service (APHIS) is authorized, among other things, to regulate the importation of plants, plant products, and other articles to prevent the introduction of plant pests into the United States. The regulations in 7 CFR 319 include specific requirements for the importation of fruits and vegetables. The regulations in 7 CFR 305 provide for the use of irradiation as a phytosanitary treatment for certain fruits and vegetables imported in the United States. The irradiation treatment provides protection against all inspect pest including fruit flies, the mango seed weevil, and others.

Need and Use of the Information: APHIS will collect information using a compliance agreement, 30-day notification, labeling packaging, dosimetry recordings, requests for dosimetry device approval, recordkeeping, requests for facility approval, work plan, trust fund agreement, phytosanitary certificate, denial and withdrawal certification and limited permit. Without the collection of this information, APHIS would have no practical way of determining that any given commodity had actually been irradiated. Irradiation leaves no residue and usually causes no discernible change to the commodity's color or texture.

Description of Respondents: Business or other for profit; Federal Government.

Number of Respondents: 43.

Frequency of Responses: Recordkeeping; Reporting: On occasion.

Total Burden Hours: 803.

Animal and Plant Health Inspection Service

Title: Importation of Pork-Filled Pasta.

OMB Control Number: 0579-0214.

Summary of Collection: The Animal Health Protection Act (AHPA) of 2002 is the primary Federal law governing the protection of animal health. The law gives the Secretary of Agriculture broad authority to detect, control, and eradicate pests or diseases of livestock or poultry. The Animal and Plant Health Inspection Service (APHIS) is responsible for protecting the health of our Nation's livestock and poultry populations by preventing the introduction and interstate spread of serious diseases and pests of livestock and for eradicating such diseases from the United States when feasible. Swine Vesicular Disease (SVD) is a highly contagious disease that resists both environmental factors and common disinfectants. SVD rarely results I mortality in infected swine and does not cause severe production losses. However, the disease can have a major economic impact since eradication if costly and SVD-free regions often prohibit imports of swine, pork, and pork products from affected regions.

Need and Use of the Information: A certificate must be completed and signed by the issuing official, and contains such information as the origin of the meat used in the product, the name and location of the facility that processed the product, and the product's intended destination. APHIS regulations contain specific requirement for the processing, recordkeeping, and certification procedures for pork-filled pasta products exported to the United States from SVD-affect regions.

Without the information, it would significantly cripple APHIS' ability to ensure that pork-filled pasta from certain regions poses a minimal risk of introducing SVD into the United States.

Description of Respondents: Business or other for-profit; and Federal Government.

Number of Respondents: 2.

Frequency of Responses: Recordkeeping; Reporting: On occasion.

Total Burden Hours: 5.

Animal & Plant Health Inspection Service

Title: Importation of Live Poultry, Poultry Meat, and Other Poultry Products from Specified Regions.

OMB Control Number: 0579-0228.

Summary of Collection: The Animal Health Protection Act (AHPA) of 2002 is the primary Federal law governing the protection of animal health. Veterinary Services of the USDA's Animal and Plant Health Inspection Service (APHIS) is responsible for administering regulations intended to prevent the introduction of animal diseases into the United States. The regulations in 9 CFR part 93 and 94 allow the export of live poultry, poultry meat and other poultry products from Argentina and the Mexican States of Campeche, Quintana Roo, and Yucatan under certain conditions. APHIS will collect information using a health certification statement that must be completed by Mexican veterinary authorities prior to export, APHIS forms VS 17-129, VS 17-29, and VS 17-30 and other activities.

Need and Use of the Information: The information collected from the health certificate, forms and other activities and other activities and other activities will provide APHIS with critical information concerning the origin and history of the items destined for importation in the United States.

Without the information APHIS would be unable to establish an effective defense against the incursion of HPAI and END from import poultry and poultry products.

Description of Respondents: Federal Government; Business or other for-profit.

Number of Respondents: 24.

Frequency of Responses: Reporting: On occasion.

Total Burden Hours: 57.

Ruth Brown,
Departmental Information Collection Clearance Officer.

[FR Doc. 2020-02113 Filed 2-3-20; 8:45 am]

BILLING CODE 3410-34-P